DEPARTMENT OF COMMERCE

National Oceanic and Atmospheric Administration

[RTID 0648-XB998]

Marine Mammals; File No. 26537

AGENCY: National Marine Fisheries Service (NMFS), National Oceanic and Atmospheric Administration (NOAA), Commerce.

ACTION: Notice; receipt of application.

SUMMARY: Notice is hereby given that BBC Studio's Natural History Unit, Broadcasting House, 31-33 Whiteladies Rd, Bristol, BS8 2LR, United Kingdom, (Responsible Party: Matt Allen), has applied in due form for a permit to conduct commercial and educational photography on marine mammals.

DATES: Written, telefaxed, or email comments must be received on or before June 13, 2022.

ADDRESSES: These documents are available upon written request via email to NMFS.Pr1Comments@noaa.gov.

Written comments on this application should be submitted via email to NMFS.Pr1Comments@noaa.gov. Please include File No. 26537 in the subject line of the email comment.

Those individuals requesting a public hearing should submit a written request via email to NMFS.Pr1Comments@noaa.gov. The request should set forth the specific reasons why a hearing on this application would be appropriate.

FOR FURTHER INFORMATION CONTACT: Sara Young or Shasta McClenahan, Ph.D., (301) 427-8401.

SUPPLEMENTARY INFORMATION: The subject permit is requested under the authority of the Marine Mammal Protection Act of 1972, as amended (MMPA; 16 U.S.C. 1361 et seq.), the regulations governing the taking and importing of marine mammals (50 CFR part 216), and the Fur Seal Act of 1966, as amended (16 U.S.C. 1151 et seq.).

The applicant proposes to film California sea lions (Zalophus californianus) and other marine mammal species opportunistically encountered in central and southern California to produce a documentary that showcases iconic west coast animal species. Filmmakers may harass up to 4,035 California sea lions, 100 northern elephant seals (Mirounga angustirostris), 250 northern fur seals (Callorhinus ursinus), 20 Risso's dolphins (Grampus griseus), 4,000 short-beaked common dolphins (Delphinus delphis), and 100 bottlenose dolphins (Tursiops truncatus) for photography/videography using a ground crew, vessels, underwater divers, and an unmanned aircraft system. Filming is expected to occur over a seven-week period in July to December. The permit would be valid for one year.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: May 9, 2022.
Amy Sloan,
Acting Chief, Permits and Conservation Division, Office of Protected Resources, National Marine Fisheries Service.

[FR Doc. 2022-10209 Filed 5-11-22; 8:45 am]

BILLING CODE 3510-22-P